DEPARTMENT OF ENERGY

Federal Energy Regulatory Commission

[Docket No. ER02-1842-000, et al.]

Midwest Independent Transmission System Operator, Inc., et al.; Electric Rate and Corporate Regulation Filings

May 29, 2002.

The following filings have been made with the Commission. The filings are listed in ascending order within each docket classification.

1. Midwest Independent Transmission System Operator, Inc.

[Docket No. ER02-1842-000]

Take notice that on May 17, 2002, the Midwest Independent Transmission System Operator, Inc. (Midwest ISO) filed certain modifications to the energy imbalance provisions of the existing Midwest ISO Open Access Transmission Tariff (Midwest ISO OATT). Specifically, the Midwest ISO is seeking to amend the energy imbalance provisions set forth in Schedule 4A of the Midwest ISO OATT in order to implement certain aspects of the Commission's recent decision Opinion No. 456, and make other changes to simplify the administration of Schedule 4A that are consistent with Commission precedent.

Copies of this filing were served on all customers of the Midwest ISO OATT, as well as on all affected state utility commissions.

Comment Date: June 7, 2002.

2. American Transmission Company LLC

[Docket No. ER02-1870-000]

Take notice that on May 21, 2002, American Transmission Company LLC (ATC) tendered for filing an executed Rider to the Distribution to Transmission Interconnection Agreement between ATC and Adams-Columbia Electric Cooperative requesting an effective date of June 25, 2001.

Comment Date: June 11, 2002.

3. American Transmission Company LLC

[Docket No. ER02-1871-000]

Take notice that on May 21, 2002, American Transmission Company LLC (ATC) tendered for filing an executed Rider to the Distribution to Transmission Interconnection Agreement between ATC and the City of Algoma requesting an effective date of June 25, 2001.

Comment Date: June 11, 2002.

4. American Transmission Company LLC

[Docket No. ER02-1872-000]

Take notice that on May 21, 2002, American Transmission Company LLC (ATC) tendered for filing an executed Rider to the Distribution to Transmission Interconnection Agreement between ATC and Badger Power Marketing Authority requesting an effective date of June 25, 2001.

Comment Date: June 11, 2002.

5. American Transmission Company LLC

[Docket No. ER02-1873-000]

Take notice that on May 21, 2002, American Transmission Company LLC (ATC) tendered for filing an executed Rider to the Distribution to Transmission Interconnection Agreement between ATC and the City of Kaukauna requesting an effective date of June 25, 2001.

Comment Date: June 11, 2002.

6. American Transmission Company LLC

[Docket No. ER02-1874-000]

Take notice that on May 21, 2002, American Transmission Company LLC (ATC) tendered for filing an executed Rider to the Distribution to Transmission Interconnection Agreement between ATC and Central Wisconsin Electric Cooperative requesting an effective date of June 25, 2001.

Comment Date: June 11, 2002.

7. American Transmission Company LLC

[Docket No. ER02-1875-000]

Take notice that on May 21, 2002, American Transmission Company LLC (ATC) tendered for filing an executed Rider to the Distribution to Transmission Interconnection Agreement between ATC and Marshfield Electric & Water Department requesting an effective date of June 25, 2001.

Comment Date: June 11, 2002.

8. American Transmission Company LLC

[Docket No. ER02-1876-000]

Take notice that on May 21, 2002, American Transmission Company LLC (ATC) tendered for filing an executed Rider to the Distribution to Transmission Interconnection Agreement between ATC and the City of Menasha requesting an effective date of June 25, 2001.

Comment Date: June 11, 2002.

9. American Transmission Company LLC

[Docket No. ER02-1877-000]

Take notice that on May 21, 2002, American Transmission Company LLC (ATC) tendered for filing an executed Rider to the Distribution to Transmission Interconnection Agreement between ATC and the City of Plymouth requesting an effective date of June 25, 2001.

Comment Date: June 11, 2002.

10. American Transmission Company LLC

[Docket No. ER02-1878-000]

Take notice that on May 21, 2002, American Transmission Company LLC (ATC) tendered for filing an executed Rider to the Distribution to Transmission Interconnection Agreement between ATC and the City of Reedsburg requesting an effective date of June 25, 2001.

Comment Date: June 11, 2002.

11. American Transmission Company LLC

[Docket No. ER02-1879-000]

Take notice that on May 21, 2002, American Transmission Company LLC (ATC) tendered for filing an executed Rider to the Distribution to Transmission Interconnection Agreement between ATC and Rock County Electric Cooperative Association requesting an effective date of June 25, 2001.

Comment Date: June 11, 2002.

12. American Transmission Company LLC

[Docket No. ER02-1880-000]

Take notice that on May 21, 2002, American Transmission Company LLC (ATC) tendered for filing an executed Rider to the Distribution to Transmission Interconnection Agreement between ATC and the City of Sheboygan Falls requesting an effective date of June 25, 2001.

Comment Date: June 11, 2002.

13. American Transmission Company LLC

[Docket No. ER02-1881-000]

Take notice that on May 21, 2002, American Transmission Company LLC (ATC) tendered for filing an executed Rider to the Distribution to Transmission Interconnection Agreement between ATC and the City of Sturgeon Bay requesting an effective date of June 25, 2001.

Comment Date: June 11, 2002.

14. American Transmission Company LLC

[Docket No. ER02-1882-000]

Take notice that on May 21, 2002, American Transmission Company LLC (ATC) tendered for filing an executed Rider to the Distribution to Transmission Interconnection Agreement between ATC and the City of Sun Paririe requesting an effective date of June 25, 2001.

Comment Date: June 11, 2002.

15. American Transmission Company LLC

[Docket No. ER02-1883-000]

Take notice that on May 21, 2002, American Transmission Company LLC (ATC) tendered for filing an executed Rider to the Distribution to Transmission Interconnection Agreement between ATC and the City of Wisconsin Rapids requesting an effective date of June 25, 2001.

Comment Date: June 11, 2002.

16. Go Green, Inc.

[Docket No. QF02-65-000]

Take notice that on May 28, 2002, Go Green, Inc., tendered for filing supplements to its April 26, 2002 filing of an application for a small power production facility with the Federal Energy Regulatory Commission (Commission). No determination has been made that the submittal constitutes a complete filing.

The supplements provide additional information pertaining to the ownership of the small power production facility.

Comment Date: June 10, 2002.

Standard Paragraph

E. Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Linwood A. Watson, Jr.,
Deputy Secretary.

[FR Doc. 02-14026 Filed 6-4-02; 8:45 am]

BILLING CODE 6717-01-P